DEPARTMENT OF THE INTERIOR

National Park Service

Burr Trail Modifications, Final Environmental Impact Statement, Capitol Reef National Park, Utah

AGENCY: National Park Service, Department of the Interior.

ACTION: Notice of availability of the Final Environmental Impact Statement for Burr Trail Modifications, Capitol Reef National Park.

SUMMARY: Pursuant to the National Environmental Policy Act of 1969, 42 U.S.C. 4332(2)(C), the National Park Service announces the availability of a Final Environmental Impact Statement (FEIS) for Burr Trail Modifications for Capitol Reef National Park, Utah.

DATES: The National Park Service will execute a Record of Decision (ROD) no sooner than 30 days following publication by the Environmental Protection Agency of the Notice of Availability of the Final Environmental Impact Statement.

ADDRESSES: Information will be available for pubic inspection online at http://parkplanning.nps.gov and at the following locations.

Office of the Superintendent, Capitol Reef National Park, Park Headquarters, Jct. Hwy 24 & Scenic Drive, Torry, Utah 84775. Telephone: (435) 425-3791.

Planning and Environmental Quality, Intermountain Support Office—Denver, National Park Service, 12795 W. Alameda Parkway,Lakewood, CO 80228. Telephone: (303) 969-2851.

Office of Public Affairs, National Park Service, Department of Interior, 18th and C Streets NW., Washington, DC 20240. Telephone: (202) 208-6743.

FOR FURTHER INFORMATION CONTACT: Contact Al Hendricks, Superintendent, Capitol Reef National Park, at the above address and telephone number.

Dated: April 26, 2006.
Rick M. Frost,
Acting Director, Intermountain Region, National Park Service.

[FR Doc. 06-5484 Filed 6-15-06; 8:45 am]

BILLING CODE 4312-DL-M